DEPARTMENT OF THE INTERIOR

Bureau of Land Management

[LLCON03000-L12200000-PA0000]

Notice of Proposed Supplementary Rules for Public Lands in Colorado: North Fruita Desert Management Area

AGENCY: Bureau of Land Management, Interior.

ACTION: Proposed supplementary rules.

SUMMARY: The Bureau of Land Management's (BLM) Grand Junction Field Office is proposing supplementary rules to regulate conduct on public lands within the North Fruita Desert Management Area (NFDMA). These supplementary rules are needed to implement decisions described in the North Fruita Desert Management Plan (NFDMP), to protect public lands, resources, public health, and provide for public safety.

DATES: Please send comments to the following address by October 5, 2009. Comments received or postmarked after this date may not be considered in the development of the final supplementary rules.

ADDRESSES: Please mail comments to Chris Ham, North Fruita Desert Management Area, 2815 H Road, Grand Junction, Colorado 81506; or e-mail comments to gjfo_webmail@blm.gov, Attn: “North Fruita.”

FOR FURTHER INFORMATION CONTACT: Eric Boik, BLM Field Staff Law Enforcement Ranger, 970-244-3070, e-mail: Eric_Boik@blm.gov or Chris Ham, Recreation Program Lead, 970-244-3031, e-mail: Chris_Ham@blm.gov.

SUPPLEMENTARY INFORMATION:

I. Public Comment Procedures

Written comments on the proposed supplementary rules should be specific, be confined to issues pertinent to the proposed supplementary rules, and explain the reason for any recommended change. Where possible, comments should reference the specific section or paragraph of the proposal which the comment is addressing. The BLM is not obligated to consider or include in the Administrative Record for the supplementary rules, comments that the BLM receives after the close of the comment period (see DATES), unless they are postmarked or electronically dated before the deadline, or comments delivered to an address other than the address listed above (see ADDRESSES). Comments, including names, street addresses, and other contact information of respondents, will be available for public review at 2815 H Road, Grand Junction, Colorado 81506, during regular business hours (7:30 a.m. to 4:30 p.m., Monday through Friday, except Federal holidays). Before including your address, phone number, e-mail address, or other personal identifying information in your comment, you should be aware that your entire comment—including your personal identifying information—may be made publicly available at any time. While you can ask us in your comment to withhold your personal identifying information from public review, we cannot guarantee that we will be able to do so.

II. Background

Recreation resource management decisions for the Grand Junction Field Office (GJFO) were detailed in the Grand Junction Resource Area (GJRA) Resource Management Plan (RMP) in 1987. The Grand Valley, including the North Fruita Desert, was designated as an Intensive Recreation Management Area (IRMA) in the RMP plan. The plan identified the need for additional planning for the IRMA due to its distinguishing characteristics and significance to recreation. The North Fruita Desert Management Plan fulfills the obligation of the GJFO to complete a site-specific recreation plan for this area. It establishes management objectives and identifies management strategies to achieve those objectives. The North Fruita Desert Management Plan amends the GJRA RMP, implements the Environmental Assessment (EA) and its amendments, and supports BLM policies. The North Fruita Desert Management Plan is an integrated, issue-driven recreation plan because it addresses all major resource disciplines present in the area and the issues associated with them. It is also consistent with direction for recreation actions found in the Recreation Guidelines to meet Public Land Health Standards on BLM Managed Lands in Colorado (2000), as well as the BLM National Mountain Bike Strategy, the BLM Off-Highway Vehicle (OHV) Strategy and the BLM Priorities for Recreation and Visitor Services. These three documents may be viewed at http://www.blm.gov.

III. Discussion of the Proposed Supplementary Rules

The proposed supplementary rules apply to the public lands within the North Fruita Desert Management Area (NFDMA). The North Fruita Desert Management Plan, a plan which amends the 1987 RMP within the North Fruita Desert Planning Area includes specific management actions that restrict certain activities and define allowable uses. The proposed supplementary rules implement these management actions within the NFDMA. These rules do not propose or implement any land use limitations or restrictions other than those limitations or restrictions included within the decisions in the RMP or allowed for by existing law or regulation. Many of the proposed supplementary rules apply to the entire area, but some apply to specific areas within the NFDMA. This approach allows for flexibility in management actions based on the results of resource and visitor monitoring.

IV. Procedural Matters

Executive Order 12866, Regulatory Planning and Review

The supplementary rules do not comprise a significant regulatory action and are not subject to review by the Office of Management and Budget under Executive Order 12866. The supplementary rules will not have an annual effect of $100 million or more on the economy. They will not adversely affect in a material way the economy, productivity, competition, jobs, the environment, public health or safety, or state, local, or tribal governments or communities. The supplementary rules will not create a serious inconsistency or otherwise interfere with an action taken or planned by another agency. The supplementary rules do not materially alter the budgetary effects of entitlements, grants, user fees, or loan programs or the rights or obligations of their recipients; nor do they raise any novel legal or policy issues. The supplementary rules merely establish rules of conduct for public use of a limited area of public lands.

Clarity of the Regulations

Executive Order 12866 requires each agency to write regulations that are simple and easy to understand. The BLM invites your comments on how to make these proposed supplementary rules easier to understand, including answers to questions such as the following:

1. Are the requirements in the supplementary rules clearly stated?

2. Do the supplementary rules contain technical language or jargon that interferes with their clarity?

3. Does the format of the supplementary rules (grouping and order of sections, use of headings, paragraphing, etc.) aid or reduce clarity?

4. Is the description of the supplementary rules in the SUPPLEMENTARY INFORMATION section of this preamble helpful in understanding the supplementary rules? How could this description be more helpful in making the supplementary rules easier to understand?

Please send any comments you have on the clarity of the rule to the address specified in the ADDRESSES section.

National Environmental Policy Act

The Management Plan and Final Environmental Assessment (EA) for the NFDMA were completed and the Record of Decision signed in August 2004. The supplementary rules are consistent with and necessary to properly carry out the direction of the RMP and the North Fruita Desert Management Plan. They establish rules of conduct for public use within NFDMA to protect public health and safety and improve the protection of the resources.

Regulatory Flexibility Act

Congress enacted the Regulatory Flexibility Act (RFA) of 1980, as amended (5 U.S.C. 601-612) to ensure that government regulations do not unnecessarily or disproportionately burden small entities. The RFA requires a regulatory flexibility analysis if a rule would have a significant economic impact, either detrimental or beneficial, on a substantial number of small entities. These supplementary rules merely establish rules of conduct for public use of a limited area of public lands. Therefore, the BLM has determined under the RFA that the supplementary rules would not have a significant economic impact on a substantial number of small entities.

Small Business Regulatory Enforcement Fairness Act

The supplementary rules are not considered a “major rule” as defined under 5 U.S.C. 804(2). The supplementary rules merely establish rules of conduct for public use of a limited area of public lands and do not affect commercial or business activities of any kind.

Unfunded Mandates Reform Act

The supplementary rules do not impose an unfunded mandate on state, local, or tribal governments in the aggregate, or the private sector of more than $100 million per year; nor do they have a significant or unique effect on small governments. The rules have no effect on governmental or tribal entities and would impose no requirements on any of these entities. The supplementary rules merely establish rules of conduct for public use of a limited area of public lands and do not affect tribal, commercial, or business activities of any kind. Therefore, the BLM is not required to prepare a statement containing the information required by the Unfunded Mandates Reform Act (2 U.S.C. 1531 et seq.).

Executive Order 12630, Governmental Actions and Interference With Constitutionally Protected Property Rights (Takings)

These supplementary rules do not have significant takings implications, nor are they capable of interfering with Constitutionally-protected property rights. The supplementary rules merely establish rules of conduct for public use of a limited area of public lands and do not affect anyone's property rights. Therefore, the BLM has determined that these rules will not cause a taking of private property or require preparation of a takings assessment under this Executive Order.

Executive Order 13132, Federalism

These supplementary rules will not have a substantial direct effect on the states, the relationship between the national government and the states, or the distribution of power and responsibilities among the various levels of government. These supplementary rules do not come into conflict with any state law or regulation. Therefore, in accordance with Executive Order 13132, the BLM has determined that these supplementary rules do not have sufficient Federalism implications to warrant preparation of a Federalism Assessment.

Executive Order 12988, Civil Justice Reform

Under Executive Order 12988, these supplementary rules will not unduly burden the judicial system and they meet the requirements of sections 3(a) and 3(b)(2) of the Order.

Executive Order 13175, Consultation and Coordination With Indian Tribal Governments

In accordance with Executive Order 13175, the BLM has found that these supplementary rules do not include policies that have tribal implications. The supplementary rules do not affect land held for the benefit, nor impede the rights of Indians or Alaska Natives.

Paperwork Reduction Act

The proposed supplementary rules do not directly provide for any information collection that the Office of Management and Budget must approve under the Paperwork Reduction Act, 44 U.S.C. 3501 et seq. Any information collection that may result from Federal criminal investigations or prosecutions conducted under these proposed supplementary rules is exempt from the provisions of the Paperwork Reduction Act of 1995, 44 U.S.C. 3518(c)(1).

Author

The principal author of these proposed supplementary rules is Eric Boik, BLM Field Staff Law Enforcement Ranger, McInnis Canyons National Conservation Area, 2815 H Road, Grand Junction, Colorado 81506.

For the reasons stated in the preamble and under the authorities for supplementary rules found under 43 U.S.C. 1740 and 43 CFR 8365.1-6, the Colorado State Director, Bureau of Land Management, proposes supplementary rules for public lands managed by the BLM in Colorado, to read as follows:

Supplementary Rules for North Fruita Desert Management Area

1. These supplementary rules apply, except as specifically exempted, to activities in the North Fruita Desert Management Area (NFDMA), which is comprised of public lands administered by the Bureau of Land Management near Grand Junction, Colorado.

2. These supplementary rules are in effect on a year-round basis and will remain in effect until modified by the authorized officer.

3. You must not start or maintain a fire outside of a metal fire ring at sites or areas where fire rings are provided by the BLM. Mechanical stoves and other appliances that are fueled by gas, and equipped with a valve that allows the operator to control the flame, are among the devices that fulfill the requirement for a metal fire ring.

4. You must not start or maintain a fire in sites or areas not designated as open for such use by a BLM sign or map.

5. You must not cut or collect live, dead, or down wood except in areas designated as open to such use by a BLM sign or map.

6. You must not use roads and/or trails by motorized or mechanized vehicle or equestrian or pedestrian travel except when designated as open to such use by a BLM sign or map.

7. You must not discharge a firearm of any kind, including those used for target shooting or paintball as indicated by a BLM sign or map. Licensed hunters in legitimate pursuit of game during the proper season with appropriate firearms, as defined by the Colorado Division of Wildlife, are exempt from this rule.

8. The hours of operation are sunrise to sunset in any area that is for day-use only as indicated by a BLM sign or map. You must not enter or remain in such an area after sunset or before sunrise.

9. You must not enter an area that is designated as closed by a BLM sign or map.

10. You must not camp in sites or areas not designated as open to camping by a BLM sign or map.

11. You must not burn material, including wood that contains nails, glass or any metal.

12. You must not park in areas not designated for parking by a BLM sign or map.

13. You must not bring any dog into the NFDMA that is not controlled by visual, audible, or physical means.

14. You must remove and properly dispose of canine solid waste when indicated by a BLM sign or map.

15. You must dispose of solid human waste as indicated by a BLM sign or map.

Exemptions: Persons who are exempt from the restrictions contained in these Rules include:

A. Federal, state, local and/or military personnel in the scope of their official duties;

B. Members of any organized rescue or fire-fighting force in performance of their official duties; and

C. Persons, agencies, municipalities, or companies holding an existing special use permit inside the NFDMA and operating within the scope of their permit.

Penalties: Any person who violates any of the supplementary rules may be tried before a United States Magistrate and fined no more than $1,000 or imprisoned for no more than 12 months, or both. 43 U.S.C. 1733(a); 43 CFR 8360.0-7. Such violations may also be subject to the enhanced fines provided for by 18 U.S.C. 3571. In accordance with 43 CFR 8365.1-7, State or local officials may also impose penalties for violations of Colorado law.

Dave Hunsaker,
Associate State Director.

[FR Doc. E9-18723 Filed 8-4-09; 8:45 am]

BILLING CODE 4310-JB-P